TENNESSEE VALLEY AUTHORITY

Mountain Reservoirs Land Management Plan, Chatuge, Hiwassee, Blue Ridge, Nottely, Ocoees 1, 2, and 3, Apalachia, and Fontana Reservoirs, Georgia, North Carolina, and Tennessee

AGENCY: Tennessee Valley Authority (TVA).

ACTION: Issuance of Record of Decision (ROD).

SUMMARY: This notice is provided in accordance with the Council on Environmental Quality's regulations (40 CFR parts 1500 through 1508) and TVA's procedures for implementing the National Environmental Policy Act (NEPA). TVA has decided to implement Alternative D—the Blended Alternative, the preferred alternative identified in its final environmental impact statement (EIS), “Mountain Reservoirs Land Management Plan.”

FOR FURTHER INFORMATION CONTACT: James F. Williamson Jr., Senior NEPA Specialist, Environmental Permitting and Compliance, Tennessee Valley Authority, 400 West Summit Hill Drive, WT 11D, Knoxville, Tennessee 37902-1401; telephone (865) 632-6418 or e-mail jfwilliamson@tva.gov.

SUPPLEMENTARY INFORMATION: In order to protect the integrated operation of the TVA reservoir and power systems, to provide opportunities for public access and use of the reservoir system, and to facilitate economic growth in the Tennessee Valley, TVA develops comprehensive plans for the management of lands associated with its reservoir projects. TVA has developed the “Mountain Reservoirs Land Management Plan” to guide management on the following reservoirs: Chatuge, Hiwassee, Blue Ridge, Nottely, Ocoees 1, 2, and 3, Apalachia, and Fontana. All public lands under TVA control on these reservoirs, i.e., 6,273 acres, were included in the planning process. Approximately three-fourths of this land area (4,664 acres) was planned previously under the Forecast System, which was developed in the 1960s. The remaining lands, totaling approximately 1,609 acres, have never been planned. TVA prepared this EIS to assess the potential environmental impacts of implementing the “Mountain Reservoirs Land Management Plan.”

TVA published a notice of intent to prepare this EIS in the Federal Register (72 FR 30657, June 1, 2007). A public scoping meeting was held on June 21, 2007, at the North Georgia Technical College in Blairsville, Georgia, and was attended by 83 people. Scoping comments were received from the U.S. Fish and Wildlife Service, 11 State or local agencies, the Eastern Band of the Cherokee Indians, the Blue Ridge Mountain Electric Membership Corporation, and a number of individuals. TVA received 473 scoping comments from the public. The notice of availability of the draft EIS was published in the Federal Register (73 FR 47949, Aug. 15, 2008). Comments on the draft EIS were received from three Federal agencies, eight State agencies, one local agency, two local governments, seven citizens' organizations, and 575 individuals. The notice of availability of the final EIS was published in the Federal Register (74 FR 39698, Aug. 7, 2009).

Alternatives Considered

TVA identified four alternatives in the EIS.

Under Alternative A, the No Action/Forecast System Alternative, TVA would continue to use its existing Forecast System designations to manage 4,664 acres (of a total of approximately 6,273 acres) on the nine mountain reservoirs. Under the Forecast System, parcels were assigned to one of 13 categories: Dam Reservation, Public Recreation, Reservoir Operations (Islands), Reservoir Operations (Mainland), Power Transmission and Power Needs, Commercial Recreation, Minor Commercial Landings, Industrial, Navigation Safety Harbors or Landings, Forestry Research, Steam Plant Study, Wildlife Management, and Small Wild Areas. Under Alternative A, approximately 1,609 acres of TVA mountain reservoirs lands unplanned under the Forecast System, including all TVA-owned Fontana Reservoir lands, would continue to be managed according to existing land use agreements, TVA's Shoreline Management Policy, and TVA's Land Policy. However, the unplanned parcels would not be allocated to a current land use zone under this alternative. The currently used allocations include Zone 1 (Non-TVA Shoreland), Zone 2 (Project Operations), Zone 3 (Sensitive Resource Management), Zone 4 (Natural Resource Conservation), Zone 5 (Industrial), Zone 6 (Developed Recreation), and Zone 7 (Shoreline Access). Thus, complete alignment with current TVA policies and guidelines would not occur.

Under Alternative B, the Proposed Land Use Plan Alternative, TVA would adopt a new land management plan based on the current reservoir land planning process and zone allocation definitions to guide future land use decisions. In addition to the 4,664 acres previously planned under the Forecast System, 1,609 acres in 231 parcels that have not been planned would be allocated. Allocations for these parcels would be based on existing land uses.

Under Alternative C, the Proposed Modified Land Use Plan Alternative, parcel allocations would be the same as those proposed under Alternative B for 351 of 360 parcels (i.e., 6,168 of the total 6,273 acres). Alternative C differs from Alternative B in that additional lands would be allocated for Developed Recreation and Industrial uses on Chatuge and Hiwassee reservoirs. These allocations, which were developed in response to proposals received during the scoping process, affect 101.6 acres on four parcels on Chatuge Reservoir and 4.0 acres on two parcels on Hiwassee Reservoir. Allocations for the other parcels on Chatuge and Hiwassee, as well as all parcels on the remaining mountain reservoirs, would be the same as those proposed under Alternative B.

TVA developed Alternative D, the Blended Alternative, following release of the draft EIS. This alternative is a mixture of Alternatives B and C. Alternative D differs from Alternative B in that an additional 6.1 acres on Chatuge Reservoir and 1.6 acres on Hiwassee Reservoir would be allocated to development-oriented uses (i.e., Developed Recreation). Compared to Alternative C, Alternative D involves the allocation of two parcels for more developed uses (i.e., Developed Recreation); whereas, Alternative C involves six parcels being allocated for recreation and industrial uses.

Comments on the Final EIS

The North Carolina Department of Environment and Natural Resources (NCDENR) commented on the final EIS that several rare aquatic species inhabit the area near Parcels 34 and 49 on Hiwassee Reservoir. Should these parcels be allocated for Developed Recreation, NCDENR recommended the use of strict erosion and sedimentation control during construction of any recreational facilities and the use of appropriate signage for public education regarding species occurring in the Hiwassee River. Under the preferred alternative, i.e., Alternative D, Hiwassee Parcel 34 would be allocated to Zone 4 (Natural Resource Conservation). Under Alternative D, Parcel 49 would be allocated to Zone 6 (Developed Recreation) in anticipation of a request from the Town of Murphy for use of this parcel to extend and make further improvements to the Heritage Riverwalk Trail. TVA would consider developed recreational uses for Parcel 49 through its land use application process. Considerations of applications for landrights allowing recreation use require completion of a recreation-specific review and an environmental review under NEPA. Any necessary mitigation, such as implementing measures to prevent erosion and sedimentation, would be identified in that environmental review, and implementation of such measures would be conditions of approval by the TVA Board of Directors or its designee.

The U.S. Environmental Protection Agency (EPA) also commented on the final EIS. EPA asked for clarification regarding whether a parcel could be reallocated based on a land use request for that parcel that is inconsistent with its allocation under the current plan. TVA's land planning efforts, including the “Mountain Reservoirs Land Management Plan,” are designed to allocate shoreline parcels to land uses based on that parcel's current land use as well as its suitability and capability for future uses. These plans serve as guidelines to direct future use of shoreline properties by TVA or by other parties under land use agreements. Under the “Mountain Reservoirs Land Management Plan,” any land use request that is obviously inconsistent and incompatible with a parcel's allocation would most likely be rejected. However, TVA could consider the reallocation of a parcel under certain limited circumstances. For example, TVA's Land Policy provides that TVA will consider changing a land use designation outside of the normal planning process only for water-access purposes for industrial or commercial recreation operations on privately owned back-lying land or to implement TVA's Shoreline Management Policy. Additionally, discovery of deeded rights that were previously overlooked or misinterpreted could necessitate a possible change in allocation to accurately reflect those rights, as land plans do not take precedence over such legal rights. In such circumstances, TVA could reallocate the subject parcel, facilitating a potential change in land use. However, such a change in allocation would be subject to approval by the TVA Board of Directors or its designee, pending the completion of an appropriate environmental review. TVA would involve the public appropriately during any environmental review for a parcel reallocation.

EPA also encouraged TVA to facilitate the development of a watershed management plan for each mountain reservoir. TVA partnered with the Hiwassee River Watershed Coalition to develop the “Lake Chatuge Watershed Action Plan,” which was completed in 2007. The other mountain reservoirs do not have similar watershed action plans in place. However, TVA monitors ecological indicators of reservoir health and water quality on all of its reservoirs, including the mountain reservoirs, and encourages citizen-led organizations to develop plans to improve reservoir water quality.

EPA expressed concerns about mitigation measures to minimize developmental impacts of shoreline amenities on Hiwassee Parcel 34 and Chatuge Parcel 52 and questioned whether such amenities could be located on brownfield sites rather than on these greenfield sites. Under Alternative C, Hiwassee Parcel 34 would be allocated to Zone 6 (Developed Recreation). This allocation was based on a proposal to use this parcel for stream access to the Hiwassee River for wade fishing. Approvals of such proposed uses of TVA land are subject to completion of an appropriate environmental review. TVA routinely requires the implementation of measures to control erosion and runoff as conditions of approval. The nearest parcel allocated to Zone 6 is Hiwassee Parcel 25, which is approximately a mile from Parcel 34. The Murphy boat launch ramp is located on Parcel 25. Under Alternative B and Alternative D (the preferred alternative), Hiwassee Parcel 34 would be allocated to Zone 4 (Natural Resource Conservation). Under this allocation, limited development consistent with dispersed recreational use of Parcel 34 would be allowed. Additionally, Parcel 46 (allocated to Sensitive Resource Management) provides an approximate 50-foot buffer between Parcel 34 and the Hiwassee River. The 6.1-acre Parcel 52 on Chatuge Reservoir would be allocated to Zone 6 (Developed Recreation) under Alternatives C and D in response to interest expressed by Towns County, the City of Hiwassee, and the Georgia Department of Natural Resources to use the parcel for recreation purposes, including a boat ramp, fishing piers, and other water-based recreational uses. This parcel is suited for this purpose due to its topography and available access. Other potential sites off reservoir (i.e., on private property) would not necessarily be suitable for providing such recreational amenities. Approval of developed recreational use of this parcel would be subject to TVA Board approval pending completion of an appropriate environmental review. Implementation of measures to prevent adverse effects to water quality would likely be a condition of that approval. At this time, TVA has not received a formal land use request for Parcel 52.

EPA requested that the ROD further address cumulative effects relative to the proposed land allocations and parcel use requests, focusing on the selected alternative. TVA recognizes that some long-term environmental changes are likely on the mountain reservoirs, primarily on Nottely, Blue Ridge, and Chatuge, due to the amount of residential development around these reservoirs. Such development can potentially affect reservoir water quality. Parcel allocations under Alternative B essentially represent the current situation in that allocations reflect the current land use on the respective parcels. Allocations under Alternative D, the preferred alternative, would differ from those under Alternative B on two parcels, totaling 7.7 acres out of a total of 6,273 acres. The two parcels involved, Chatuge Parcel 52 and Hiwassee Parcel 49, would be allocated for Developed Recreation under Alternative D. Although use of these parcels for Developed Recreation would have some environmental effects, these are not expected to be significant with respect to either parcel. The placement of any necessary measures to prevent water quality degradation would likely be imposed as conditions of TVA's approval of the requested land use. The additional recreational opportunities afforded by these amenities are not expected to affect local population growth on Chatuge or Hiwassee reservoir. Thus, implementation of Alternative D is not expected to cause any measurable cumulative environmental effects.

The Tribal Historic Preservation Officer of the Seminole Tribe of Florida requested a cultural resource assessment survey for the remainder of the project area. A comprehensive cultural resources survey of all TVA-managed land on the mountain reservoirs is not feasible at this time due to the extensive amount of land involved. However, before undertaking any land-disturbing action or prior to allowing any such activities, TVA would conduct a cultural resources survey, including a survey of archaeological sites, on the subject properties in accordance with the requirements of the National Historic Preservation Act.

Decision

TVA has decided to implement Alternative D, the Blended Alternative. Under this alternative, the land use zone allocations would provide public benefits while balancing competing demands for the use of public lands. Significant resources, including threatened and endangered species, cultural resources, wetlands, unique habitats, water quality, and visual character of the reservoirs, would be protected under the allocations prescribed under Alternative D.

Environmentally Preferred Alternative

Under Alternative B, parcel allocations were made based on the current land uses for each parcel. Thus, inasmuch as there would be essentially no future change under Alternative B in any parcel's land use from its current status, this alternative is the environmentally preferred alternative. However, implementation of Alternative D, TVA's preferred alternative, would involve the same parcel allocations on 358 of the total 360 parcels. Under Alternative D, the 6.1-acre Chatuge Parcel 52 and the 1.6-acre Hiwassee Parcel 49 would be allocated for possible developed recreational use. Such allocations are not expected to result in adverse environmental effects. Recreational allocations on these two parcels would afford additional local recreational opportunities.

Mitigation

No specific mitigation measures were identified to reduce potential environmental effects. However, before taking actions that could result in adverse environmental effects or allowing such actions to occur on properties it controls, TVA would perform an appropriate site-specific environmental review to determine necessary mitigative measures or precautions.

Dated: December 7, 2009.
Janet C. Herrin,
Senior Vice President, River Operations.

[FR Doc. E9-29868 Filed 12-15-09; 8:45 am]

BILLING CODE 8120-08-P